DEPARTMENT OF COMMERCE

Foreign-Trade Zones Board

[B-52-2020]

Foreign-Trade Zone (FTZ) 38—Spartanburg County, South Carolina, Application for Production Authority, Teijin Carbon Fibers, Inc. (Polyacrylonitrile-Based Carbon Fiber); Invitation for Public Comment on Rebuttal Submission

Pursuant to 15 CFR 400.32(c)(2), the FTZ Board is inviting public comment on the rebuttal submission of Teijin Carbon Fibers, Inc. (TCF) (dated November 10, 2020) that contains new or expanded argument or evidence. The rebuttal submission was presented in the context of the FTZ Board's consideration of the pending application requesting certain authority for TCF to produce polyacrylonitrile-based carbon fiber at its facility in Greenwood, South Carolina within FTZ 38. In response to this invitation for public comment, parties may also address argument or evidence presented in the application and in other parties' submissions in response to the initial invitation for public comment on the application (85 FR 49359, August 13, 2020). The application and parties' submissions may be viewed in the Online FTZ Information System on the FTZ Board's website (accessible via www.trade.gov/ftz).

Public comment is invited from interested parties. The closing period for their receipt is January 19, 2021. Rebuttal comments in response to material submitted during the foregoing period may be submitted during the subsequent 15-day period to February 1, 2021. Submissions shall be addressed to the Board's Executive Secretary and sent to: ftz@trade.gov.

For further information, contact Diane Finver at Diane.Finver@trade.gov or (202) 482-1367.

Dated: December 14, 2020.
Andrew McGilvray,
Executive Secretary.

[FR Doc. 2020-27789 Filed 12-16-20; 8:45 am]

BILLING CODE 3510-DS-P